DEPARTMENT OF COMMERCE

National Oceanic and Atmospheric Administration

Marine Mammals and Endangered Species

AGENCY: National Marine Fisheries Service (NMFS), National Oceanic and Atmospheric Administration (NOAA), Commerce.

ACTION: Notice; issuance of permits and permit modifications.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Erin Markin (Permit No. 21858-01), Jennifer Skidmore (Permit No. 20610-01), and Sara Young (Permit Nos. 22289, 22293, and 22298); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
20610-01 | 0648-XF801 | David Portnoy, Ph.D., Texas A&M University, Corpus Christi, TX 78412 | 84 FR 24103; May 24, 2019 | June 27, 2019
21858-01 | 0648-XG332 | NMFS Greater Atlantic Regional Fisheries Office, 55 Great Republic Drive, Gloucester MA 01930 (Responsible Party: Julie Crocker) | 84 FR 20618; May 10, 2019 | June 25, 2019.
22289 | 0648-XG913 | Alaska Fisheries Science Center's Marine Mammal Laboratory (MML), 7600 Sand Point Way NE, Seattle, WA 98115-0070 (Responsible Party: John Bengtson) | 84 FR 15597; April 16, 2019 | June 21, 2019.
22293 | 0648-XG913 | Alaska Sea Life Center (ASLC), P.O. Box 1329, 301 Railway Avenue, Seward, AK 99664 (Responsible Party: Tara Reimer) | 84 FR 15597; April 16, 2019 | June 21, 2019.
22298 | 0648-XG913 | Alaska Department of Fish and Game (ADF&G), P.O. Box 25526, Juneau, AK 99802-5526 (Responsible Party: Michael Rehberg) | 84 FR 15597; April 16, 2019 | June 21, 2019.

For Permit Nos. 20610-01 and 21585-01, in compliance with the National Environmental Policy Act of 1969 (42 U.S.C. 4321 et seq.), a final determination has been made that the activities proposed are categorically excluded from the requirement to prepare an environmental assessment (EA) or environmental impact statement (EIS).

For Permit Nos. 22289, 22293, and 22298, a determination was made that the activities authorized are consistent with the Preferred Alternative in the Final Programmatic EIS for Steller Sea Lion and Northern Fur Seal Research (NMFS 2007). A supplemental EA (NMFS 2014) was prepared for the addition of unmanned aerial surveys to the suite of Steller sea lion research activities analyzed under the EIS and concluded that issuance of the permits would not have a significant adverse impact on the human environment. An environmental review memo was prepared to summarize these findings.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: July 15, 2019.
Julia Marie Harrison,
Chief, Permits and Conservation Division, Office of Protected Resources, National Marine Fisheries Service.

[FR Doc. 2019-15304 Filed 7-17-19; 8:45 am]

BILLING CODE 3510-22-P